DEPARTMENT OF THE INTERIOR

National Park Service

60-Day Notice of Intention To Request Clearance of Collection of Information; Opportunity for Public Comment

AGENCY: National Park Service, Interior.

ACTION: Notice and request for comments.

SUMMARY: Under the provisions of the Paperwork Reduction Act of 1995 and 5 CFR Part 1320, Reporting and Record Keeping Requirements, the National Park Service (NPS) invites public comments on an extension of a currently approved collection of information (OMB #1024-0029). An agency may not conduct or sponsor, and a person is not required to respond to, a collection of information unless it displays a currently valid Office of Management and Budget (OMB) control number.

DATES: Submit comments on or before March 30, 2010.

ADDRESSES: Submit comments directly to Ms. Jo A. Pendry, Chief, Commercial Services Program, National Park Service, 1201 Eye Street, NW., 11th Floor, Washington, DC 20005 or via fax at 202/371-2090. All responses to the Notice will be summarized and included in the request for the OMB approval. All comments will become a matter of public record.

FOR FURTHER INFORMATION CONTACT: Ms. Jo A. Pendry, Chief, Commercial Services Program, National Park Service, 1201 Eye Street, NW., 11th Floor, Washington, DC 20005, via e-mail at Jo_Pendry@nps.gov or via phone at 202-513-7156. You are entitled to a copy of the entire ICR package free-of-charge.

SUPPLEMENTARY INFORMATION: OMB Control Number: 1024-0029.

Title: Concessioner Annual Financial Reports.

Form(s): 10-356, 10-356A.

Type of Request: Extension of a currently approved collection of information.

Abstract: The regulations at 36 CFR Part 51 primarily implement Title IV of the National Parks Omnibus Management Act of 1998 (Pub. L. 105-391 or the Act), which requires that the Secretary of the Interior exercise authority in a manner consistent with a reasonable opportunity for a concessioner to realize a profit on his operation as a whole commensurate with the capital invested and the obligations assumed. It also requires that franchise fees be determined with consideration to the opportunity for net profit in relation to both gross receipts and capital invested. The financial information being collected is necessary to provide insight into, and knowledge of the concessioner's operation so that this authority can be exercised and franchise fees determined in a timely manner and without an undue burden on the concessioner. This program will measure performance in meeting goals as required by the 1995 Government Performance and Results Act.

Affected public: Businesses and nonprofit organizations.

Obligation to respond: Required to obtain or retain a benefit.

Frequency of response: Annually.

Estimated total annual responses:

150 responses for Form 10-356.

350 responses for form 10-356A.

Estimated average completion time per response:

Form 10-356—16 hours per response.

Form 10-356A—4 hours per response.

Estimated annual reporting burden: 3,800 hours.

Estimated annual nonhour cost burden: None.

Comments are invited on: (1) The practical utility of the information being gathered; (2) the accuracy of the burden hour estimate; (3) ways to enhance the quality, utility, and clarity of the information to be collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so.

Dated: January 26, 2010.
Cartina Miller,
NPS Information Collection Clearance Officer.

[FR Doc. 2010-1903 Filed 1-28-10; 8:45 am]

BILLING CODE 4312-53-P